ENVIRONMENTAL PROTECTION AGENCY

[FRL-7802-4]

Science Advisory Board Staff Office; Notification of Upcoming Science Advisory Board Meetings

AGENCY: Environmental Protection Agency (EPA).

ACTION: Notice.

SUMMARY: The EPA Science Advisory Board (SAB) Staff Office announces a public face-to-face meeting of the chartered SAB. The Board will discuss science issues facing EPA Regions; review and approve of two SAB Committee draft reports; discuss and approve the FY 2005 SAB plans; and plan for the SAB annual meeting. The SAB Staff Office also announces a public meeting of the SAB's Committee on Valuing the Protection of Ecological Systems and Services (C-VPESS) to focus on regional science issues related to the Committee's charge.

DATES:

September 13-14, 2004. A public meeting of the Board will be held from 9 a.m. to 5:30 p.m (Pacific Time) on September 13, 2004, and from 8:30 a.m. to 4 p.m. (Pacific Time) on September 14, 2004.

September 13-15, 2004. A public meeting of the C-VPESS will be held from 1 p.m. to 3:45 p.m (Pacific Time) on September 13, 2004; from 8 a.m. to 6 p.m. (Pacific Time) on September 14, 2004; and from 8 a.m. to 11:30 a.m. (Pacific Time) on September 15, 2004.

ADDRESSES: The meetings of the Board and the C-VPESS will be held at the U.S. EPA Region 9 Headquarters Office, 75 Hawthorne Street, San Francisco, CA 94105.

FOR FURTHER INFORMATION CONTACT: Members of the public who wish to obtain further information regarding the Board may contact Mr. Thomas O. Miller, Designated Federal Officer (DFO), U.S. EPA Science Advisory Board via phone (202-343-9982) or e-mail at miller.tom@epa.gov, or Dr. Anthony Maciorowski, Associate Director for Science, U.S. EPA Science Advisory Board via phone (202-343-9983) or e-mail at maciorowski.anthony@epa.gov.

Members of the public wishing further information regarding the C-VPESS meeting may contact Dr. Angela Nugent, Designated Federal Officer (DFO), via telephone at: (202-343-9981) or e-mail at: nugent.angela@epa.gov.

The SAB Mailing address is: U.S. EPA, Science Advisory Board (1400F), 1200 Pennsylvania Avenue, NW., Washington, DC 20460. General information about the SAB, as well as any updates concerning the meetings announced in this notice, may be found in the SAB Web site at http://www.epa.gov/sab.

SUPPLEMENTARY INFORMATION: Background on the Board Meeting: At this meeting, the Science Advisory Board will focus on the following: (a) Science programs of EPA Region 9, (b) the FY 2005 SAB plan, (c) the review of two draft SAB Panel reports, and (d) planning for the SAB Annual meeting scheduled for December 1-2, 2004. Any additional items that might be discussed will be reflected in the meeting agenda that will be posted on the SAB website prior to the meeting.

(a) EPA Regional Science Issues—The SAB will receive briefings from, and discuss scientific issues, with Regional senior leadership and scientists. These are designed to (1) inform the SAB about regional science issues and concerns; (2) identify opportunities for future SAB and Regional office interactions on topics of interest; and (3) provide the regions with insights into the overall SAB role in advising the Agency on the technical underpinnings of the Agency's science and environmental decisions.

(b) SAB FY 2005 Plan—The Board will finalize its operational plans for FY 2005. This will include discussions of projects nominated by Agency offices and regions, projects nominated by SAB and its Committees, and its continuing information gathering activities in support of the SAB review of EPA's science budget.

(c) Review of SAB Committee Draft Reports: The Board will review two draft SAB reports. Reports to be considered include: (1) The SAB's draft report Review of EPA's Draft Report on the Environment 2003, and (2) SAB's draft report Report of the U.S. EPA Science Advisory Board's 3MRA Panel on the Multimedia, Multipathway, and Multireceptor Risk Assessment (3MRA) Modeling System. Information on these reviews, and drafts of each report, can be found on the SAB Web site at: http://www.epa.gov/sab/drrep.htm.

(d) Planning for the SAB Annual Meeting: The Board will discuss its plans for its Annual Meeting of the SAB which is scheduled to be held in Washington, DC on December 1-2, 2004.

Background on the C-VPESS Meeting: Background on the Committee and its charge was provided in 68 FR 11082 (March 7, 2003). The purpose of the meeting is for the Committee to focus on regional science needs, work-products, and activities by holding panel discussions, briefings, and break-out groups. The SAB will receive briefings on issues related to the value of protecting ecological systems and services in Region 9 and discuss scientific issues, with Regional senior leadership and scientists.

All of these activities are related to the Committee's overall charge, to assess Agency needs and the state of the art and science of valuing protection of ecological systems and services, and then to identify key areas for improving knowledge, methodologies, practice, and research.

Availability of Review Material for the Meetings: Agendas and documents that are the subject of these meetings are available from the SAB Staff Office Web site http://www.epa.gov/sab/.

Procedures for Providing Public Comment: It is the policy of the EPA Science Advisory Board (SAB) Staff Office to accept written public comments of any length, and to accommodate oral public comments whenever possible. The EPA SAB Staff Office expects that public statements presented at Board meetings will not be repetitive of previously submitted oral or written statements. Oral Comments: In general, each individual or group requesting an oral presentation at a face-to-face meeting will be limited to a total time of ten minutes (unless otherwise indicated). For conference call meetings, opportunities for oral comment will usually be limited to no more than three minutes per speaker and no more than fifteen minutes total. Interested parties should contact the Designated Federal Official (DFO) in writing via e-mail at least one week prior to the meeting in order to be placed on the public speaker list for the meeting. Speakers should bring at least 35 copies of their comments and presentation slides for distribution to the participants and public at the meeting. Written Comments: Although written comments are accepted until the date of the meeting (unless otherwise stated), written comments should be received in the SAB Staff Office at least one week prior to the meeting date so that the comments may be made available to the committee for their consideration. Comments should be supplied to the appropriate DFO at the address/contact information above in the following formats: one hard copy with original signature, and one electronic copy via e-mail (acceptable file format: Adobe Acrobat, WordPerfect, Word, or Rich Text files (in IBM-PC/Windows 95/98 format). Those providing written comments and who attend the meeting are also asked to bring 35 copies of their comments for public distribution.

Meeting Accommodations: Individuals requiring special accommodation to access these meetings, should contact the relevant DFO at least five business days prior to the meeting so that appropriate arrangements can be made.

Dated: August 10, 2004.
Vanessa T. Vu,
Director, EPA Science Advisory Board Staff Office.

[FR Doc. 04-18960 Filed 8-17-04; 8:45 am]

BILLING CODE 6560-50-P